DEPARTMENT OF ENERGY

Federal Energy Regulatory Commission

Combined Notice of Filings #1

Take notice that the Commission received the following electric rate filings:

Docket Numbers: ER20-2618-000.

Applicants: Thordin ApS.

Description: Supplement (Revised Transmittal Letter) to August 6, 2020 Thordin ApS tariff filing.

Filed Date: 9/3/20.

Accession Number: 20200903-5205.

Comments Due: 5 p.m. ET 9/24/20.

Docket Numbers: ER20-2806-000.

Applicants: Lightsource Renewable Energy Development, LLC.

Description: Petition for Limited Waiver, et al. of Lightsource Renewable Energy Development, LLC.

Filed Date: 9/2/20.

Accession Number: 20200902-5279.

Comments Due: 5 p.m. ET 9/16/20.

Docket Numbers: ER20-2828-000.

Applicants: PJM Interconnection, L.L.C.

Description: Tariff Cancellation: Notice of Cancellation of W3-002 ISA, SA No. 2782 to be effective 11/7/2020.

Filed Date: 9/4/20.

Accession Number: 20200904-5150.

Comments Due: 5 p.m. ET 9/25/20.

Docket Numbers: ER20-2829-000.

Applicants: Public Service Company of Colorado.

Description: § 205(d) Rate Filing: 2020-09-04_OATT Att O-SPS Transmission Template AGIS-Filing to be effective 1/1/2020.

Filed Date: 9/4/20.

Accession Number: 20200904-5151.

Comments Due: 5 p.m. ET 9/25/20.

Docket Numbers: ER20-2830-000.

Applicants: PPM Roaring Brook, LLC.

Description: Baseline eTariff Filing: Application for Market-Based Rate Authorization, Request for Related Waivers to be effective 11/4/2020.

Filed Date: 9/4/20.

Accession Number: 20200904-5154.

Comments Due: 5 p.m. ET 9/25/20.

Docket Numbers: ER20-2831-000.

Applicants: PJM Interconnection, L.L.C.

Description: Tariff Cancellation: Notice of Cancellation of ISA, No. 2823 to be effective 11/7/2020.

Filed Date: 9/4/20.

Accession Number: 20200904-5161.

Comments Due: 5 p.m. ET 9/25/20.

Docket Numbers: ER20-2832-000.

Applicants: Southern California Edison Company.

Description: § 205(d) Rate Filing: Letter Agreement NextEra Desert Center Blythe, LLC SA No. 252 to be effective 9/9/2020.

Filed Date: 9/8/20.

Accession Number: 20200908-5101.

Comments Due: 5 p.m. ET 9/29/20.

Docket Numbers: ER20-2833-000.

Applicants: Antelope Expansion 3A, LLC.

Description: § 205(d) Rate Filing: Antelope Expansion 3A, LLC Certificate of Concurrence to be effective 9/9/2020.

Filed Date: 9/8/20.

Accession Number: 20200908-5124.

Comments Due: 5 p.m. ET 9/29/20.

Docket Numbers: ER20-2834-000.

Applicants: Antelope Expansion 3B, LLC.

Description: § 205(d) Rate Filing: Antelope Expansion 3B, LLC Certificate of Concurrence to be effective 9/9/2020.

Filed Date: 9/8/20.

Accession Number: 20200908-5129.

Comments Due: 5 p.m. ET 9/29/20.

Docket Numbers: ER20-2835-000.

Applicants: Southern California Edison Company.

Description: Tariff Cancellation: Notice of Cancellation SCE Connections Agreement RS No. 495 to be effective 7/30/2016.

Filed Date: 9/8/20.

Accession Number: 20200908-5132.

Comments Due: 5 p.m. ET 9/29/20.

Docket Numbers: ER20-2836-000.

Applicants: Southwest Power Pool, Inc.

Description: § 205(d) Rate Filing: 1168R2 Smoky Hills Wind Farm LGIA to be effective 8/6/2020.

Filed Date: 9/8/20.

Accession Number: 20200908-5146.

Comments Due: 5 p.m. ET 9/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2020.
Nathaniel J. Davis, Sr.,
Deputy Secretary.

[FR Doc. 2020-20246 Filed 9-14-20; 8:45 am]

BILLING CODE 6717-01-P